DEPARTMENT OF TRANSPORTATION

Federal Aviation Administration

14 CFR Part 39

[Docket No. FAA-2023-2398; Project Identifier AD-2023-00423-T; Amendment 39-23129; AD 2025-18-02]

RIN 2120-AA64

Airworthiness Directives; The Boeing Company Airplanes

AGENCY: Federal Aviation Administration (FAA), DOT.

ACTION: Final rule.

SUMMARY: The FAA is adopting a new airworthiness directive (AD) for all The Boeing Company Model 787-8, 787-9, and 787-10 airplanes. This AD was prompted by a report indicating that the oxygen supply tubing can become kinked when certain passenger service unit (PSU) oxygen panel assemblies are installed in the forward-most position of a center stow bin. This AD requires a one-time inspection of the affected PSU oxygen panel assemblies and applicable on-condition actions. This AD also prohibits the installation of affected parts. The FAA is issuing this AD to address the unsafe condition on these products.

DATES: This AD is effective October 22, 2025.

The Director of the Federal Register approved the incorporation by reference of certain publications listed in this AD as of October 22, 2025.

ADDRESSES:

AD Docket: You may examine the AD docket at regulations.gov under Docket No. FAA-2023-2398; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2023-2398.

FOR FURTHER INFORMATION CONTACT: Joshua Baek, Aviation Safety Engineer, FAA, 2200 South 216th St., Des Moines, WA 98198; phone: 562-627-6725; email: Joshua.Y.Baek@faa.gov.

SUPPLEMENTARY INFORMATION:

Background

The FAA issued a notice of proposed rulemaking (NPRM) to amend 14 CFR part 39 by adding an AD that would apply to all The Boeing Company Model 787-8, 787-9, and 787-10 airplanes. The NPRM was published in the Federal Register on December 22, 2023 (88 FR 88544). The NPRM was prompted by a report indicating that the oxygen supply tubing can become kinked when certain PSU oxygen panel assemblies are installed in the forward-most position of a center stow bin. In the NPRM, the FAA proposed to require a one-time inspection of the affected PSU oxygen panel assemblies and applicable on-condition actions. In the NPRM, the FAA also proposed to prohibit the installation of affected parts. The FAA is issuing this AD to address the incorrect installation of the oxygen supply tubing in the PSU oxygen panel assemblies.

Discussion of Final Airworthiness Directive

Comments

The FAA received comments from The Boeing Company (Boeing), American Airlines (American), All Nippon Airways (All Nippon), and United Airlines (United). The following presents the comments received on the NPRM and the FAA's response to each comment.

Request To Clarify the NPRM Background

Boeing requested the FAA revise the second sentence of the Background paragraph of the NPRM to clarify that the PSU reverse bottle oxygen panel assembly drawing restructure introduced a conflict between the lower- and upper-level assembly drawings for center-installed panel assemblies only, and that PSU reverse bottle oxygen panel assembly drawings for outboard-installed panel assemblies were not impacted. Boeing stated that, following the drawing restructure, only the center-installed PSU reverse bottle oxygen panel assemblies had the lower-level assembly drawings with incorrect routing definition.

Boeing also requested the FAA revise the third sentence of the Background paragraph of the NPRM to clarify that, after the drawing restructure, the upper-level assembly drawings had maintained the correct routing design intent. Boeing stated that the upper-level assembly drawings had the correct routing design intent before and after the drawing restructure, and that the upper-level assembly drawings were not impacted.

The FAA partially agrees. The FAA agrees with Boeing's clarifications of the background information. However, the FAA has not revised the AD because that information is not restated in the Background paragraph of this AD.

Request To Extend the Compliance Time

American requested that the FAA extend the compliance time to 48 months. All Nippon and United requested it be extended to 36 months. American and All Nippon stated that a 24-month compliance time would require operators to schedule special maintenance visits and possibly require airplanes to be out of service, and United stated it would be burdensome to operators. American, All Nippon, and United also stated that extending the compliance time would allow operators to accomplish the AD requirements during scheduled C-checks, which would have the least impact on operators. United stated that providing an extra 24 months to comply with the AD will not significantly decrease the level of safety.

The FAA agrees to extend the compliance time to 36 months and has revised paragraphs (h)(1), (2), and (3) of this AD accordingly.

The FAA does not agree to extend the compliance time to 48 months. In developing an appropriate compliance time for this action, the FAA considered the recommendations of the manufacturer, the urgency associated with the unsafe condition, the availability of required parts, and the practical aspect of accomplishing the required actions within a period of time that corresponds to normal scheduled maintenance for most affected operators. In consideration of these items, the FAA has determined that a 36-month compliance time will ensure an acceptable level of safety. Extending the compliance time will allow operators to work within existing maintenance schedules and act as soon as reasonably practical. However, under the provisions of paragraph (k) of this AD, the FAA will consider requests for approval of an extension of the compliance time if sufficient data are submitted to substantiate that the new compliance time would provide an acceptable level of safety.

Request To Refer to Later Revision of Boeing Service Information

Boeing requested that the FAA revise the proposed AD to reference Issue 002 of Boeing Alert Requirements Bulletins B787-81205-SB250277-00 RB and B787-81205-SB250278-00 RB instead of Issue 001. Boeing stated it will be releasing Issue 002 of those service bulletins no later than July 12, 2024, in order to reference Revision 2 of Collins Aerospace Service Bulletins 4572105-25-001, 4572175-25-001, and 4572185-25-001.

The FAA does not agree with the request. Issue 002 of the Boeing requirements bulletins have not been issued, and the publication date is yet to be determined. To delay this action until the revised service information is published would be inappropriate since the FAA has determined that an unsafe condition exists and actions must be conducted to ensure continued safety. Operators may apply for approval to use later revisions as an alternative method of compliance (AMOC) with this AD under the provisions of paragraph (k) of this AD. The FAA has not changed this AD in this regard.

Request To Refer to Later Revisions of Collins Aerospace Service Information

American, All Nippon, and United requested that Boeing Alert Requirements Bulletins B787-81205-SB250277-00 RB and B787-81205-SB250278-00 RB, both Issue 001, both dated February 15, 2023, be revised to reference Collins Aerospace Service Bulletins 4572105-25-001, 4572175-25-001, and 4572185-25-001, all Revision 2, all dated November 6, 2023.

The FAA acknowledges the commenters' concern. The FAA notes that, among various actions, Issue 001 of the Boeing requirements bulletins specifies to replace the oxygen supply tubing if certain damage is found, using instructions in Revision 1 of the Collins Aerospace service bulletins. The FAA has reviewed Revision 2 of the Collins Aerospace service bulletins and found that the instructions for this replacement have been removed from the service bulletins. In addition, the FAA has found that certain paragraphs in Revision 2 of the Collins Aerospace service bulletins have been reidentified, which has resulted in paragraph misalignment between actions specified in Issue 001 of the Boeing requirements bulletins and Revision 2 of the Collins Aerospace service bulletins. The FAA has therefore determined that the differences between Revision 1 and Revision 2 of the Collins Aerospace service bulletins make it impractical to include an exception in this AD that would allow use of Revision 2 of the Collins Aerospace service bulletins in conjunction with Issue 001 of the Boeing requirements bulletins. As discussed in the previous comment, the FAA has determined that it would be inappropriate to delay this action until the Boeing requirements bulletins are revised to reference Revision 2 of the Collins Aerospace service bulletins. However, under the provisions of paragraph (k) of this AD, operators may apply for approval to use Revision 2 of the Collins Aerospace service bulletins as an AMOC to this AD provided the discrepancies described above are addressed. The FAA has not changed this AD in this regard.

Request To Refer to Additional Component Maintenance Manuals (CMMs)

American requested that Boeing Alert Requirements Bulletins B787-81205-SB250277-00 and B787-81205-SB250278-00, both Issue 001, both dated February 15, 2023, be revised to reference Collins Aerospace CMMs 25-23-62 and 25-23-63. American noted that the Boeing service bulletins reference CMM 25-23-60 for PSU oxygen panel assembly part number (P/N) 4572105-XXX-0D0 but are missing references to CMM 25-23-62 for P/N 4572175-XXX-0D0 and CMM 25-23-63 for P/N 4572185-XXX-0D0.

The FAA acknowledges the commenter's concern. The FAA reviewed the Boeing service bulletins and determined that CMM 25-23-60 is referenced as an accepted procedure for cleaning parts before reassembly, and that the procedure is not marked as required for compliance (RC) with this AD. This means operators may deviate from that procedure and use CMM 25-23-62 or 25-23-63, as applicable, without AMOC approval. The FAA has not changed this AD in this regard.

Request To Add Option To Replace PSU Oxygen Panel Assembly in Lieu of Repair

American requested that the FAA revise the proposed AD by adding an option to remove a discrepant PSU oxygen panel assembly and replace it with a compliant PSU oxygen panel assembly. American noted that Boeing Alert Requirements Bulletins B787-81205-SB250277-00 and B787-81205-SB250278-00, both Issue 001, both dated February 15, 2023, do not provide an option for removing a discrepant PSU oxygen panel assembly and installing a replacement PSU oxygen panel assembly that either has a manufacture date of June 2020 or after, or manufacture date of May 2020 or before and a supplier service bulletin modification label marked with the applicable service bulletin number and date. American noted that reworking the PSU oxygen panel assemblies on the airplane would be challenging because the applicable Collins Aerospace CMMs require clean space, and this rework would be best to be done in a shop environment.

The FAA agrees and has added paragraph (i) of this AD to allow replacement of an affected PSU oxygen panel assembly with an acceptable part instead of repairing the affected part. An acceptable part is a PSU oxygen panel assembly, P/N 4572105-XXX-0D0, 4572175-XXX-0D0, or 4572185-XXX-0D0, as applicable, where “XXX” in the PSU oxygen panel assembly part numbers is any combination of numerals, that has an identification label with either a manufacture date of June 2020 or after, or May 2020 or before and a supplier service bulletin modification label marked with the applicable supplier service bulletin number and date.

Request To Revise the Number of Affected Airplanes

American requested that the FAA revise the estimated number of affected U.S.-registered airplanes from 19 to 59 in the Costs of Compliance section of the proposed AD. American stated that, because the PSU oxygen panels are rotable parts, the scope of the AD will be associated with all 59 of American's Model 787-8 and 787-9 airplanes.

The FAA partially agrees. The FAA agrees to update the estimated number of affected U.S.-registered airplanes but has revised the estimate to 119 airplanes in the Cost of Compliance section. Paragraph (g) of this AD requires a maintenance records check or inspection of all airplane line numbers identified in Boeing Alert Requirements Bulletins B787-81205-SB250277-00 RB, and B787-81205-SB250278-00 RB, both Issue 001, both dated February 15, 2023, which include all 59 of American's Model 787-8 and 787-9 airplanes among other airplanes. The FAA clarifies that the maintenance records check or inspection does not need to be accomplished on airplane line numbers not identified in the Boeing requirements bulletins because the unsafe condition was addressed on those airplanes during production. The FAA has revised the estimated cost of compliance on U.S. operators, accordingly.

Request To Provide a List of Affected Part Numbers

United stated it would be prudent for either Boeing or Collins Aerospace to provide a list of the part numbers that would be affected by the proposed AD. United stated that the proposed AD would require operators to check the center stowage bin PSU oxygen panel assemblies for series of P/Ns 4572105-XXX-0D0, 4572175-XXX-0D0, and 4572185-XXX-0D0 series and those manufactured in May 2020 and prior. United asserted that this equates to approximately 64 different part numbers primarily dependent on the number of masks and the duration (capacity) of the compressed oxygen cylinder. United stated it would use the itemized list of exact part numbers to earmark all the affected part numbers as impacted by an AD in order to maintain compliance for its current and future spare supply needs. United also stated this is critical information for operators and suppliers given the proposed requirement to prohibit installation of affected parts on airplanes.

The FAA does not agree with the request because providing an itemized list of affected PSU part numbers increases the chance of omitting a part number. The FAA has determined that the instructions provided in the service information provide adequate information for operators to identify affected PSU part numbers. The FAA has not changed this AD in this regard.

Request To Clarify if the Unsafe Condition Only Exists on Certain Part Numbers

United stated it would be prudent for Boeing to clarify in its service information that the unsafe condition only exists on PSU oxygen panel assembly P/Ns 4572105-XXX-0D0, 4572175-XXX-0D0, and 4572185-XXX-0D0 that were manufactured in May 2020 and prior. United questioned whether the pinching condition of the oxygen supply tube and the stowage bin end blade exists on other families of Collins Aerospace PSU oxygen panel assemblies with a different base part number (for example, 4572103-XXX-0D0). United stated it would be beneficial to know if any other family of Collins Aerospace PSU part numbers are not applicable and have been validated to not replicate the pinching condition, either from a “reverse bottle” orientation contacting the aft face of a bin blade or from a “normal” bottle orientation contacting the forward face of a bin blade.

The FAA acknowledges the commenter's concern. As noted by Boeing's public comment submission, the incorrect routing only applies to PSU reverse bottle oxygen panel assemblies installed on the center stowage bins. The outboard-installed PSU reverse bottle oxygen panel assemblies were not impacted. The FAA has not changed this AD in this regard.

Request To Explain Missing Table in Boeing Service Information

United stated that table 5 seems to be missing from Boeing Alert Requirements Bulletins B787-81205-SB250277-00 RB and B787-81205-SB250278-00 RB, both Issue 001, both dated February 15, 2023. United believes this to be a table pagination error between Boeing Alert Service Bulletins B787-81205-SB250277-00 and B787-81205-SB250278-00, both Issue 001, both dated February 15, 2023, and the corresponding Boeing requirements bulletins.

The FAA infers United requests an explanation as to why the Boeing requirements bulletins do not include table 5 while the related Boeing service bulletins do. The FAA agrees to clarify the difference. In the related service bulletin, the information between the locations marked “RC Start” and “RC End” is identical to the information in the same sections of the requirement bulletins. Information not marked as an RC step in the service bulletin is omitted from the requirements bulletin because it is not required for compliance with the AD. The FAA reviewed the related Boeing service bulletins and determined that the information in table 5 of the service bulletins is not marked as an RC step for AD compliance and therefore was intentionally omitted from the Boeing requirements bulletin. The FAA has not changed this AD in this regard.

Additional Changes to This AD

The FAA has added two notes to paragraph (g) of this AD specifying that guidance for accomplishing the actions required by this AD can be found in Boeing Alert Service Bulletins B787-81205-SB250277-00 and B787-81205-SB250278-00, both Issue 001, both dated February 15, 2023.

The FAA has revised paragraph (j) of this AD to clarify that the applicable supplier service bulletin numbers are identified in Boeing Alert Service Bulletins B787-81205-SB250277-00 and B787-81205-SB250278-00, both Issue 001, both dated February 15, 2023.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Requirements Bulletins B787-81205-SB250277-00 RB and B787-81205-SB250278-00 RB, both Issue 001, both dated February 15, 2023. This material specifies procedures for verifying the identification label of the oxygen panel assembly, doing a general visual inspection of the oxygen supply tube and initiator cable assembly for correct installation, and doing a general visual inspection for damage of the oxygen supply tubing. The material also specifies procedures for on-condition actions: replacing the oxygen supply tubing, re-routing of the oxygen supply tubing and initiator cable assembly, and reidentifying equipment. These documents are distinct since they apply to different airplane.

This material is reasonably available because the interested parties have access to it through their normal course of business or by the means identified in the ADDRESSES section.

Costs of Compliance

The FAA estimates that this AD affects 119 airplanes of U.S. registry. The FAA estimates the following costs to comply with this AD:

Estimated Costs
Action | Labor cost | Parts cost | Cost per product | Cost on U.S. operators
Inspections and rerouting | Up to 25 work-hours × $85 per hour = Up to $2,125 | $0 | Up to $2,125 | Up to $252,875.

The FAA estimates the following costs to do any necessary on-condition actions that would be required based on the results of the inspection. The agency has no way of determining the number of aircraft that might need the on-condition actions.

On-Condition Costs
Action | Labor cost | Parts cost | Cost per product
Replacement of oxygen supply tube | Up to 9 work-hours × $85 per hour = Up to $765 | $30 | Up to $795.

The FAA has included all known costs in its cost estimate. According to the manufacturer, however, some or all the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-18-02 The Boeing Company: Amendment 39-23129; Docket No. FAA-2023-2398; Project Identifier AD-2023-00423-T.

(a) Effective Date

This airworthiness directive (AD) is effective October 22, 2025.

(b) Affected ADs

None.

(c) Applicability

This AD applies to all The Boeing Company Model 787-8, 787-9, and 787-10 airplanes, certificated in any category.

(d) Subject

Air Transport Association (ATA) of America Code 35, Oxygen.

(e) Unsafe Condition

This AD was prompted by a report indicating that the oxygen supply tubing can become kinked when certain passenger service unit (PSU) oxygen panel assemblies are installed in the forward-most position of a center stow bin. The FAA is issuing this AD to address incorrect installation of the oxygen supply tubing in the PSU oxygen panel assemblies. The unsafe condition, if not addressed, could result in kinked tubing and consequent injury of the airplane's passengers because of a lack of supplemental oxygen during a cabin depressurization event.

(f) Compliance

Comply with this AD within the compliance times specified, unless already done.

(g) Inspection of the Affected Parts

For airplanes identified in Boeing Alert Requirements Bulletins B787-81205-SB250277-00 RB, Issue 001, dated February 15, 2023, and B787-81205-SB250278-00 RB, Issue 001, dated February 15, 2023: Except as specified by paragraph (h) of this AD, at the applicable times specified in the “Compliance” paragraph of Boeing Alert Requirements Bulletins B787-81205-SB250277-00 RB, Issue 001, dated February 15, 2023, or B787-81205-SB250278-00 RB, Issue 001, dated February 15, 2023, as applicable, do all applicable actions identified in, and in accordance with, the Accomplishment Instructions of Boeing Alert Requirements Bulletin B787-81205-SB250277-00 RB, Issue 001, dated February 15, 2023, or B787-81205-SB250278-00 RB, Issue 001, dated February 15, 2023, as applicable.

Note 1 to paragraph (g): Guidance for accomplishing the actions required by this AD can be found in Boeing Alert Service Bulletin B787-81205-SB250277-00, Issue 001, dated February 15, 2023, which is referred to in Boeing Alert Requirements Bulletin B787-81205-SB250277-00 RB, Issue 001, dated February 15, 2023.

Note 2 to paragraph (g): Guidance for accomplishing the actions required by this AD can be found in Boeing Alert Service Bulletin B787-81205-SB250278-00, Issue 001, dated February 15, 2023, which is referred to in Boeing Alert Requirements Bulletin B787-81205-SB250278-00 RB, Issue 001, dated February 15, 2023.

(h) Exceptions to Requirements Bulletin Specifications

(1) Where the Compliance Time columns of the tables in the “Compliance” paragraph of Boeing Alert Requirements Bulletin B787-81205-SB250277-00 RB, Issue 001, dated February 15, 2023, refer to a compliance time of within 24 months after the Issue 001 date of the Requirements Bulletin or within 24 months after date of issuance of original standard certificate of airworthiness or original export certificate of airworthiness, whichever occurs later, this AD requires using within 36 months after the effective date of this AD or within 36 months after date of issuance of original standard certificate of airworthiness or original export certificate of airworthiness, whichever occurs later.

(2) Where the Compliance Time columns of the tables in the “Compliance” paragraph of Boeing Alert Requirements Bulletin B787-81205-SB250278-00 RB, Issue 001, dated February 15, 2023, refer to a compliance time of within 24 months after the Issue 001 date of the Requirements Bulletin or within 24 months after date of issuance of original standard certificate of airworthiness or original export certificate of airworthiness, whichever occurs later, this AD requires using within 36 months after the effective date of this AD or within 36 months after date of issuance of original standard certificate of airworthiness or original export certificate of airworthiness, whichever occurs later.

(3) Where Boeing Alert Requirements Bulletin B787-81205-SB250277-00 RB, Issue 001, dated February 15, 2023, and Boeing Alert Requirements Bulletin B787-81205-SB250278-00 RB, Issue 001, dated February 15, 2023, specify that the corrective actions for Conditions 2, 2.2, 2.2.2, and 3 must be done before further flight, this AD requires that the corrective actions for those conditions be done within 36 months after the effective date of this AD, or within 36 months after the date of issuance of original standard certificate of airworthiness or original export certificate of airworthiness, whichever occurs later.

(i) Optional Replacement

Replacement of a PSU oxygen panel assembly, part number (P/N) 4572105-XXX-0D0, 4572175-XXX-0D0, or 4572185-XXX-0D0 that was manufactured in May 2020 or before, with an applicable PSU oxygen panel assembly, P/N 4572105-XXX-0D0, 4572175-XXX-0D0, or 4572185-XXX-0D0 that has the applicable identification label(s) specified in paragraph (i)(1) or (2) of this AD, is acceptable for compliance with the requirements of paragraph (g) of this AD, where “XXX” in the PSU oxygen panel assembly part numbers is any combination of numerals.

(1) An identification label with a manufacture date of June 2020 or after.

(2) An identification label with a manufacture date of May 2020 or before and a supplier service bulletin modification label marked with the applicable supplier service bulletin number identified in Boeing Alert Requirements Bulletin B787-81205-SB250277-00 RB, Issue 001, dated February 15, 2023, or Boeing Alert Requirements Bulletin B787-81205-SB250278-00 RB, Issue 001, dated February 15, 2023, and the supplier service bulletin date.

(j) Parts Installation Prohibition

As of the effective date of this AD, no person may install, on any airplane, a PSU oxygen panel assembly, P/N 4572105-XXX-0D0, 4572175-XXX-0D0, or 4572185-XXX-0D0, where the “XXX” in the affected PSU oxygen panel assembly part numbers is any combination of numerals, that was manufactured in May 2020 or before, and does not have a supplier service bulletin modification label marked with an applicable supplier service bulletin number identified in Boeing Alert Requirements Bulletin B787-81205-SB250277-00 RB, Issue 001, dated February 15, 2023, or Boeing Alert Requirements Bulletin B787-81205-SB250278-00 RB, Issue 001, dated February 15, 2023, and the supplier service bulletin date.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (l) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(l) Related Information

For more information about this AD, contact Joshua Baek, Aviation Safety Engineer, FAA, 2200 South 216th St., Des Moines, WA 98198; phone: 562-627-6725; email: Joshua.Y.Baek@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin B787-81205-SB250277-00 RB, Issue 001, dated February 15, 2023.

(ii) Boeing Alert Requirements Bulletin B787-81205-SB250278-00 RB, Issue 001, dated February 15, 2023.

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 2, 2025.
Lona C. Saccomando,
Acting Deputy Director, Integrated Certificate Management Division, Aircraft Certification Service.

[FR Doc. 2025-17984 Filed 9-16-25; 8:45 am]

BILLING CODE 4910-13-P